DEPARTMENT OF COMMERCE

National Oceanic and Atmospheric Administration

RIN 0648-XF533

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a public webinar meeting.

DATES: The meeting will be held on Tuesday, August 1, 2017, from 2 p.m. until 4:30 p.m.

ADDRESSES: The meeting will be held via webinar with a telephone-only connection option. The webinar can be accessed at http://mafmc.adobeconnect.com/chub_hms_diet/. Audio can be accessed through the webinar link or by dialing 1-800-832-0736 and entering meeting room number 5068871.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council; telephone: (302) 526-5255.

SUPPLEMENTARY INFORMATION: The goal of this webinar is to understand the importance of Atlantic chub mackerel (Scomber colias) to the diets of highly migratory species (HMS) predators in U.S. waters, with a focus on recreationally-important predators such as large tunas and billfish. The objectives of the meeting are to: (1) Convene a panel of scientific experts on HMS diets, (2) clarify what is known about the importance of chub mackerel to HMS diets based on currently available data, and (3) develop recommendations for future studies to quantify the role of chub mackerel in HMS diets. Meeting these objectives will help the Council analyze the potential impacts of chub mackerel management alternatives on HMS predators as well as on recreational fisheries for those predators. The Council is developing chub mackerel management alternatives through an amendment to the Mackerel, Squid, Butterfish Fishery Management Plan. More information on the amendment is available at: http://www.mafmc.org/actions/chub-mackerel-amendment. To facilitate productive discussions among the invited experts, public participation during this webinar meeting will be limited to designated question and answer and comment periods. Members of the public are invited to email questions for the invited experts to Council staff (jbeaty@mafmc.org) in advance of the meeting.

Special Accommodations

The meeting is physically accessible to people with disabilities. Requests for sign language interpretation or other auxiliary aid should be directed toM. Jan Saunders, (302) 526-5251, at least 5 days prior to the meeting date.

Dated: July 7, 2017.
Tracey L. Thompson,
Acting Deputy Director, Office of Sustainable Fisheries, National Marine Fisheries Service.

[FR Doc. 2017-14622 Filed 7-12-17; 8:45 am]

BILLING CODE 3510-22-P